DEPARTMENT OF AGRICULTURE

Agricultural Marketing Service

7 CFR Part 989

[Doc. No. AMS-FV-10-0044; FV10-989-2 PR]

Raisins Produced From Grapes Grown in California; Use of Estimated Trade Demand To Compute Volume Regulation Percentages

AGENCY: Agricultural Marketing Service, USDA.

ACTION: Withdrawal of proposed rule.

SUMMARY: This action withdraws a proposed rule published in the Federal Register on August 6, 2010 (75 FR 47490), on the use of an estimated trade demand figure to compute volume regulation percentages for 2010-11 crop Natural (sun-dried) Seedless (NS) raisins covered under the Federal marketing order for California raisins (order). The order regulates the handling of raisins produced from grapes grown in California and is administered locally by the Raisin Administrative Committee (committee). The proposal provided parameters for implementing volume regulations for 2010-11 NS raisins for the purpose of maintaining the industry's export program and stabilizing the domestic market. Based upon comments in response to the proposed rule, conditions in the industry, the change in the worldwide raisin outlook, and the lack of industry support for an estimated trade demand, the proposed rule is being withdrawn.

FOR FURTHER INFORMATION CONTACT: Terry Vawter, Senior Marketing Specialist or Kurt J. Kimmel, Regional Manager, California Marketing Field Office, Marketing Order Administration Branch, Fruit and Vegetable Programs, AMS, USDA; Telephone: (559) 487-5901, Fax: (559) 487-5906, or E-mail: Terry.Vawter@ams.usda.gov or Kurt.Kimmel@ams.usda.gov.

Small businesses may request information on complying with this regulation by contacting Antoinette Carter, Marketing Order Administration Branch, Fruit and Vegetable Programs, AMS, USDA, 1400 Independence Avenue, SW., STOP 0237, Washington, DC 20250-0237; Telephone: (202) 720-2491, Fax: (202) 720-8938, or E-mail: Antoinette.Carter@ams.usda.gov.

SUPPLEMENTARY INFORMATION: Marketing Agreement and Order No. 989, both as amended (7 CFR part 989), regulate the handling of raisins produced from grapes grown in California, hereinafter referred to as the “order.” The order is effective under the Agricultural Marketing Agreement Act of 1937, as amended (7 U.S.C. 601-674), hereinafter referred to as the “Act.”

This action withdraws a proposed rule, published in the Federal Register on August 6, 2010 (75 FR 47490), on the establishment of an estimated trade demand figure to compute volume regulation percentages for 2010-11 crop Natural (sun-dried) Seedless (NS) raisins covered under the order.

Specifically, the proposed rule would have provided authority for the committee to use an estimated trade demand for the 2010-11 crop NS raisins to compute volume regulation percentages, creating a reserve if the crop estimate is equal to, less than, or no more than 10 percent greater than the computed trade demand prescribed under the order; provided that the final reserve percentage computed using such estimated trade demand shall be no more than 10 percent, and no reserve would be established if the final 2010-11 NS raisin crop estimate is less than 110 percent of the previous crop year's domestic shipments.

Reserve raisins have historically been used by the committee to support market development programs that have strengthened export sales and reduced surpluses, thus providing stability to the domestic market.

During the comment period, August 6 through 23, 2010, the Department of Agriculture (USDA) received eight timely comments. These comments may be reviewed at: http://www.regulations.gov. Readers may access the docket and comments submitted by typing the docket number, AMS-FV-10-0044, into the Keyword field on the home page and clicking on Search. The docket details, including the list of comments, appear on the lower third of the search results page.

Of the eight comments received, two favored implementation of the proposed rule. These commenters expressed their view that the establishment of an estimated trade demand is necessary to ensure that volume regulation in established for the 2010-2011 crop year. Establishment of volume regulation would in turn allow development and funding of an export program to support handler sales in export markets. According to these comments, such an export program is necessary for the California raisin industry to maintain an international market presence, sustain current sales momentum, and to be competitive in the global raisin market.

Six of the eight comments did not favor implementation of the proposed rule. These commenters generally stated that conditions in the industry and the worldwide raisin outlook had changed since the proposed rule was recommended. More specifically, the California raisin industry has contracted, and the supply and demand for raisins in domestic and export markets is relatively balanced. The commenters also noted that the recommendation for this action was made prior to the availability of data indicating that the 2010-2011 raisin crops in Chile and Turkey are estimated to be smaller than in previous years. The expected shorter global supply of raisins provides export marketing opportunities for handlers of California raisins and lessens the need for an export program to support handler's sales, according to the commenters. Further, one commenter stated that if volume regulation and an export program are implemented this year, it could result in inadequate raisin supplies for the domestic market. Other commenters expressed the opinion that with worldwide supply and demand in balance, the California raisin industry should not utilize volume regulation to support handler's export sales.

Since the committee made its unanimous recommendation to utilize estimated trade demand for the 2010-2011 crop year on May 13, 2010, additional and more current information has become available indicating the industry and worldwide raisin situation has changed, thus reducing the need to implement this rule. In addition, comments received from handlers and growers indicate a lack of support for this action. USDA has therefore determined to withdraw this rule.

Accordingly, the proposed rule regarding the establishment of an estimated trade demand figure to compute volume regulation percentages for 2010-11 crop NS raisins published in the Federal Register on August 6, 2010 (75 FR 47490), is hereby withdrawn.

List of Subjects in 7 CFR Part 989

Grapes, Marketing agreements, Raisins, Reporting and recordkeeping requirements.

Authority: 7 U.S.C. 601-674.

Dated: October 8, 2010.
Rayne Pegg,
Administrator, Agricultural Marketing Service.

[FR Doc. 2010-26163 Filed 10-15-10; 8:45 am]

BILLING CODE 3410-02-P